ENVIRONMENTAL PROTECTION AGENCY

[FRL-7662-5]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet in June 2004. This is an open meeting. The meeting will include updates on workgroup activities, a discussion of technical issues associated with the proposed Locomotive/Marine diesel engine Rule, and a presentation on powertrain engineering and hydraulic hybrid research being conducted at EPA's National Vehicle and Fuel Emissions Laboratory. The preliminary agenda for the meeting, as well as the minutes from the previous (December 2003) meeting will be posted on the Subcommittee's Web site: http://www.epa.gov/air/caaac/mobile_sources.html. MSTRS listserver subscribers will receive notification when the agenda is available on the Subcommittee Web site. To subscribe to the MSTRS listserver, go to https://lists.epa.gov/cgi-bin/lyris.pl?enter=mstrs. The site contains instructions and prompts for subscribing to the listserver service.

DATES: Wednesday, June 9, 2004 from 9 a.m. to 4 p.m. Registration begins at 8:30 a.m.

ADDRESSES: The meeting will be held at the National Vehicle and Fuel Emissions Laboratory, 2000 Traverwood Drive, Ann Arbor, Michigan 48105, (734) 214-4311.

FOR FURTHER INFORMATION CONTACT: For technical information: Dr. L. Joseph Bachman, Designated Federal Officer, Transportation and Regional Programs Division, Mailcode 6406J, U.S. EPA, 1200 Pennsylvania Avenue, NW., Washington, DC 20460; Ph: 202-343-9373; e-mail: bachman.joseph@epa.gov.

For logistical and administrative information: Ms. Kimberly Derksen, FACA Management Officer, U.S. EPA, 2000 Traverwood Drive, Ann Arbor, Michigan 48105, Ph: 734-214-4272; FAX: 731-214-4958; e-mail: derksen.kimberly@epa.gov.

Background on the work of the Subcommittee is available at http://transaq.ce.gatech.edu/epatac/, and more current information is found at: http://www.epa.gov/air/caaac/mobile_sources.html.

Individuals or organizations wishing to provide comments to the Subcommittee should submit them to Dr. Bachman at the address above by June 4, 2004. The Subcommittee expects that public statements presented at its meetings will not be repetitive of previously submitted oral or written statements.

SUPPLEMENTARY INFORMATION: During the meeting, the Subcommittee may also hear progress reports from some of its workgroups as well as updates and announcements on activities of general interest to attendees.

Margo Tsirigotis Oge,
Director, Office of Transportation and Air Quality.

[FR Doc. 04-11116 Filed 5-14-04; 8:45 am]

BILLING CODE 6560-50-P